DEPARTMENT OF HOMELAND SECURITY

Bureau of Customs and Border Protection

[CBP Decision 04-41]

CBP Decisions; Application for Recordation of Trade Name: “Precision Instrument Manifolds”

ACTION: Notice of application for recordation of trade name.

SUMMARY: Application has been filed pursuant to § 133.12, Customs Regulations (19 CFR 133.12), for recordation under section 42 of the Act of July 5, 1946, as amended (15 U.S.C. 1124), of the trade name “PRECISION INSTRUMENT MANIFOLDS,” used by DYNAMIC Controls & Sensors, Inc., a corporation organized under the laws of the State of Texas, located at P.O. Box 5009 Kingwood, Texas 77325.

The application states that the trade name is used in connection with valves.

Before final action is taken on the application, consideration will be given to any relevant data, views, or arguments submitted in writing by any person in opposition to the recordation of this trade name. Notice of the action taken on the application for recordation of this trade name will be published in the Federal Register.

DATES: Comments must be received on or before February 14, 2005.

ADDRESSES: Written comments should be addressed to U.S. Customs and Border Protections, Attention: Office of Regulations and Rulings, Intellectual Property Rights Branch, 1301 Constitution Avenue, NW., (Mint Annex), Washington, DC 20229.

FOR FURTHER INFORMATION CONTACT: Delois P. Johnson, Paralegal, Intellectual Property Rights Branch, at (202) 572-8703.

Dated: December 9, 2004.
George Frederick McCray,
Chief, Intellectual Property Rights Branch.

[FR Doc. 04-27419 Filed 12-14-04; 8:45 am]

BILLING CODE 4820-02-P